DEPARTMENT OF LABOR

Employment and Training Administration

[TA-W-36,258 and TA-W-36,258A]

Burlen Corporation, Fitzgerald Plant, Fitzgerald, Georgia and Burlen Corporation, Tifton Plant, Tifton, Georgia; Amended Certification Regarding Eligibility To Apply for Worker Adjustment Assistance

In accordance with Section 223 of the Trade Act of 1974 (19 U.S.C. 2273) the Department of Labor issued a Notice of Certification Regarding Eligibility to Apply for Worker Adjustment Assistance on September 20, 1999, applicable to workers of Burlen Corporation, Fitzgerald Plant, Fitzgerald, Georgia. The notice was published in the Federal Register on October 14, 1999 (64 FR 55751).

At the request of the petitioners, the Department reviewed the certification for workers of the subject firm. The workers were engaged in the production of women's underwear. New information shows that workers were separated in December, 1999 at the Tifton Plant, Tifton, Georgia location of Burlen Corporation. The workers are engaged in the production of women's underwear and provide distribution and shipping services for the subject firms' production facility in Fitzgerald, Georgia which closed in July, 1999.

Accordingly, the Department is amending the certification to cover the workers of Burlen Corporation, Tifton Plant, Tifton, Georgia.

The intent of the Department's certification is to include all workers of Burlen Corporation who were adversely affected by increased imports.

The amended notice applicable to TA-W-36,258 is hereby issued as follows:

“All workers of Burlen Corporation, Fitzgerald Plant, Fitzgerald, Georgia (TA-W-36,258) and Tifton Plant, Tifton, Georgia (TA-W-36,258A) who became totally or partially separated from employment on or after May 14, 1998 through September 20, 2001 are eligible to apply for adjustment assistance under Section 223 of the Trade Act of 1974.”

Signed at Washington, DC this 19th day of January, 2000.
Grant D. Beale,
Program Manager, Office of Trade Adjustment Assistance.

[FR Doc. 00-2504 Filed 2-3-00; 8:45 am]

BILLING CODE 4510-30-M